DEPARTMENT OF LABOR

Employment and Training Administration

[TA-W-59,785]

Collins & Aikman, Nashville, TN; Notice of Termination of Investigation

Pursuant to Section 221 of the Trade Act of 1974, as amended, an investigation was initiated on July 25, 2006, in response to a petition filed by The United Steelworkers of America, District 9, Local 5887 on behalf of workers of Collins & Aikman, Nashville, Tennessee.

This petition is a duplicate of petition number TA-W-59,737, filed on July 18, 2006, that is the subject of an ongoing investigation. Consequently, this investigation is terminated.

Signed at Washington, DC, this 26th day of July, 2006.
Linda G. Poole,
Certifying Officer, Division of Trade Adjustment Assistance.

[FR Doc. E6-13183 Filed 8-10-06; 8:45 am]

BILLING CODE 4510-30-P